DEPARTMENT OF HOMELAND SECURITY

Transportation Security Administration

[Docket No. TSA-2013-0005]

RIN 1652-AA55

Request for Comments on Security Training Programs for Surface Mode Employees

AGENCY: Transportation Security Administration (TSA), DHS.

ACTION: Notice; request for comments.

SUMMARY: TSA seeks comments and data on employee security training programs and planned security training exercises currently provided by owner/operators of freight railroads, passenger railroads, public transportation systems (excluding ferries), and over-the-road buses. While TSA is in the process of completing a notice of proposed rulemaking (NPRM) that would fulfill requirements of the Implementing Recommendations of the 9/11 Commission Act of 2007 (9/11 Act) to mandate security training for frontline employees, additional data would provide TSA with a more accurate understanding of the existing baseline and potential costs associated with the proposed rule. In particular, TSA is requesting information regarding programs currently implemented—whether as a result of regulatory requirements, grant requirements, in anticipation of a rule, voluntary, or otherwise—and the costs associated with these training programs.

DATES: Submit comments by July 15, 2013.

ADDRESSES: You may submit comments, identified by the TSA docket number to this rulemaking, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue SE., West Building Ground Floor, Room W12-140, Washington, DC 20590-0001; fax (202) 493-2251. The Department of Transportation (DOT), which maintains and processes TSA's official regulatory dockets, will scan the submission and post it to FDMS.

See SUPPLEMENTARY INFORMATION for format and other information about comment submissions.

FOR FURTHER INFORMATION CONTACT: Virginia Wise, Office of Security Policy and Industry Engagement, Surface Division, TSA-28, Transportation Security Administration, 601 South 12th Street, Arlington, VA 20598-6028; telephone (571) 227-1080; facsimile (703) 603-0230; email Ginny.Wise @dhs.gov.

SUPPLEMENTARY INFORMATION:

Comments Invited

TSA invites interested persons to participate in this action by submitting written comments or views, supplemented with as much data as possible. We also invite comments relating to the economic or federalism impacts that might result from this action. See ADDRESSES above for information on where to submit comments.

With each comment, please identify the docket number at the beginning of your comments. While not required, TSA encourages commenters to provide their name and contact information so TSA can engage in follow-up, if necessary. The most helpful comments reference a specific portion of the document and include supporting data. You may submit comments and material electronically, in person, by mail, or fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file all comments to our docket address, as well as items sent to the address or email under FOR FURTHER INFORMATION CONTACT, in the public docket, except for comments containing confidential information and sensitive security information (SSI).¹ Should you wish your personally identifiable information redacted prior to filing in the docket, please so state. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Comments containing trade secrets, confidential commercial or financial information, other proprietary information, or SSI should be appropriately marked as containing such information and submitted by mail to the address listed in FOR FURTHER INFORMATION CONTACT section. Do not submit comments containing this type of information to the public regulatory docket. TSA will not place comments containing SSI in the public docket and will handle them in accordance with applicable safeguards and restrictions on access. TSA will hold documents containing SSI, confidential business information, or trade secrets in a separate file to which the public does not have access, and place a note in the public docket explaining that commenters have submitted such documents. TSA may include a redacted version of the comment in the public docket. If an individual requests to examine or copy information that is not in the public docket, TSA will treat it as any other request under the Freedom of Information Act (FOIA) (5 U.S.C. 552) and the Department of Homeland Security's (DHS's) FOIA regulation found in 6 CFR part 5.

Reviewing Comments in the Docket

Please be aware that anyone is able to search the electronic form of all comments in any of our dockets by the name of the individual who submitted the comment (or signed the comment, if an association, business, labor union, etc., submitted the comment). You may review the applicable Privacy Act Statement published in the Federal Register on April 11, 2000 (65 FR 19477), or you may visit http://DocketInfo.dot.gov.

You may review TSA's electronic public docket on the Internet at http://www.regulations.gov. In addition, DOT's Docket Management Facility provides a physical facility, staff, equipment, and assistance to the public. To obtain assistance or to review comments in TSA's public docket, you may visit this facility between 9:00 a.m. to 5:00 p.m., Monday through Friday, excluding legal holidays, or call (202) 366-9826. This docket operations facility is located in the West Building Ground Floor, Room W12-140 at 1200 New Jersey Avenue SE., Washington, DC 20590.

Availability of Document

You can get an electronic copy using the Internet by—

(1) Searching the electronic Federal Docket Management System (FDMS) Web page at http://www.regulations.gov;

(2) Accessing the Government Printing Office's Web page at http://www.gpo.gov/fdsys/browse/collection.action?collectionCode=FR to view the daily published Federal Register edition; or accessing the “Search the Federal Register by Citation” in the “Related Resources” column on the left, if you need to do a Simple or Advanced search for information, such as a type of document that crosses multiple agencies or dates; or

(3) Visiting TSA's Security Regulations Web page at http://www.tsa.gov and accessing the link for “Stakeholders” at the top of the page, then the link “Research Center” in the left column.

In addition, copies are available by writing or calling the individual in the FOR FURTHER INFORMATION CONTACT section. Make sure to identify the docket number of this rulemaking.

Requirements of the 9/11 Act

The “Implementing Recommendations of the 9/11 Commission Act of 2007” (9/11 Act) requires DHS to issue regulations requiring security training for frontline employees in the public transportation, railroad carrier, and over-the-road bus (OTRB) modes.² In summary, the 9/11 Act specifies for each mode that regulations must (1) Require preparation of a program to prepare employees, including frontline employees, for potential security threats and conditions; (2) for each mode, the 9/11 Act prescribes specific elements that must, at a minimum, be included in the program; and (3) sets the schedule by which all employees covered by the program must be trained. While TSA is in the process of completing a notice of proposed rulemaking (NPRM) that would fulfill these requirements of the 9/11 Act, additional data would provide TSA with a more accurate understanding of the existing baseline and potential costs associated with the proposed rule. TSA will consider comments and data submitted in response to this Notice to inform the NPRM. There will be another opportunity for comment on the proposed rule once it is published in the Federal Register.

² Public Law 110-53; 121 Stat. 266 (August 3, 2007).

9/11 Act's Public Transportation Security Training Requirements. Paragraph 1408(a) of the 9/11 Act directs the Secretary of Homeland Security to develop and issue regulations “for a public transportation security training program to prepare public transportation employees, including frontline employees, for potential security threats and conditions.” Paragraph 1408(c) directs DHS to include specific program elements. Paragraph 1408(d) requires DHS to approve security training programs. Paragraph 1408(b) directs DHS to consult with a range of stakeholders, including appropriate law enforcement, fire service, security, and terrorism experts; representatives of public transportation agencies; and nonprofit employee labor organizations representing public transportation employees or emergency response personnel, before issuing the regulation.

9/11 Act's Railroad Carrier Security Training Requirements. Section 1517 of the 9/11 Act sets similar requirements for railroad carriers. Paragraph 1517(a) directs the Secretary of Homeland Security to develop and issue regulations for a security training program “to prepare railroad carrier frontline employees for potential security threats and conditions.” DHS must consider “any current security training requirements and best practices” in these regulations. Paragraph 1517(b) requires DHS to consult with stakeholders including appropriate law enforcement, fire service, emergency response, security, and terrorism experts; railroad carriers; railroad shippers; and nonprofit employee labor organizations representing railroad employees or emergency response personnel. Paragraph 1517(c) specifies program elements. Paragraph 1517(d) requires DHS to approve security training programs. Within 90 days after DHS issues the regulations, each railroad carrier must develop a security training program and submit it to DHS for approval.

9/11 Act's Over-the-Road Bus Security Training Requirements. Section 1534 of the 9/11 Act contains similar requirements for OTRBs. Paragraph 1534(a) directs DHS to develop and issue regulations for an OTRB program “to prepare over-the-road bus frontline employees for potential security threats and conditions” and to “take into consideration any current security training requirements or best practices.” Paragraph 1534(b) directs DHS to consult with OTRB owner/operators, first responders, labor representatives, and security experts before issuing the rule. Paragraph 1534(c) specifies program elements. Paragraph 1534(d) requires DHS to approve security training programs. Within 90 days after DHS issues the regulations, each OTRB owner/operator must develop a security training program and submit it to DHS for approval.

Specific requirements for all modes. The 9/11 Act prescribes specific elements that must, at a minimum, be included in the security training program required by the regulations. Table 1 identifies the specific elements as prescribed for each of the three modes specified in the Act.

Table 1—Required Training Program Elements From 9/11 Act
1408(c)—Public transportation | 1517(c)—Freight and passenger railroads | 1534(c)—OTRB
(1) Determination of the seriousness of any occurrence or threat. | (1) Determination of the seriousness of any occurrence or threat. | (1) Determination of the seriousness of any occurrence or threat.
(2) Crew and passenger communication and coordination. | (2) Crew and passenger communication and coordination. | (2) Driver and passenger communication and coordination.
(3) Appropriate responses to defend oneself, including using nonlethal defense devices. | (3) Appropriate responses to defend or protect oneself. | (3) Appropriate responses to defend or protect oneself.
(4) Use of personal protective devices and other protective equipment. | (4) Use of personal and other protective equipment. | (4) Use of personal and other protective equipment.
(5) Evacuation procedures for passengers and employees, including individuals with disabilities and the elderly. | (5) Evacuation procedures for passengers and railroad employees, including individuals with disabilities and the elderly. | (5) Evacuation procedures for passengers and over-the-road bus employees, including individuals with disabilities and the elderly.
(6) Training related to behavioral and psychological understanding of, and responses to, terrorist incidents, including the ability to cope with hijacker behavior, and passenger responses. | (6) Psychology, behavior, and methods of terrorists, including observation and analysis. | (6) Psychology, behavior, and methods of terrorists, including observation and analysis.
(7) Live situational training exercises regarding various threat conditions, including tunnel evacuation procedures. | (7) Training related to psychological responses to terrorist incidents, including the ability to cope with hijacker behavior and passenger responses. | (7) Training related to psychological responses to terrorist incidents, including the ability to cope with hijacker behavior and passenger responses.
(8) Recognition and reporting of dangerous substances and suspicious packages, persons, and situations. | (8) Live situational training exercises regarding various threat conditions, including tunnel evacuation procedures. | (8) Live situational training exercises regarding various threat conditions, including tunnel evacuation procedures.
(9) Understanding security incident procedures, including procedures for communicating with governmental and non-governmental emergency response providers and for on scene interaction with such emergency response providers. | (9) Recognition and reporting of dangerous substances, suspicious packages, and situations. | (9) Recognition and reporting of dangerous substances, suspicious packages, and situations.
(10) Operation and maintenance of security equipment and systems. | (10) Understanding security incident procedures, including procedures for communicating with governmental and non-governmental emergency response providers and for on scene interaction with such emergency response providers. | (10) Understanding security incident procedures, including procedures for communicating with emergency response providers and for on scene interaction with such emergency response providers.
(11) Other security training activities that the Secretary deems appropriate. | (11) Operation and maintenance of security equipment and systems. | (11) Operation and maintenance of security equipment and systems.
| (12) Other security training activities that the Secretary deems appropriate. | (12) Other security training activities that the Secretary deems appropriate.

Table 2 identifies the frontline employees who, at a minimum, must be trained pursuant to security training programs developed to meet the requirements of the 9/11 Act. Some flexibility is allowed for the training program to make adjustments as necessary based upon the work performed by the employee. For example, a dispatcher's training would likely have more focus on the appropriate protocols for sharing information during an emergency while a maintenance-of-way worker may have more training on identifying potential threats.

Table 2—Frontline Employees Identified in the 9/11 Act
Sec. 1402(4)—Public transportation frontline employees | Sec. 1501(5)—OTRB frontline employees | Sec. 1501(6)—Railroad frontline employees
Transit vehicle driver or operator | Drivers | Locomotive engineers, conductors, trainmen, and other onboard employees.
Maintenance and maintenance support employee | Maintenance and maintenance support personnel | Maintenance, maintenance support personnel, and bridge tenders.
Dispatcher | Dispatchers | Dispatchers.
Security employee, or transit police | Security personnel | Security personnel.
Station attendant, customer service employee, and any other employee who has direct contact with riders on a regular basis | Ticket agents [and] other terminal employees | Locomotive engineers, conductors, and other onboard employees.
Any other employee of a public transportation agency that the Secretary determines should receive security training | Other employees of an over-the-road bus operator or terminal owner or operator that the Secretary determines should receive security training | Any other employees of railroad carriers that the Secretary determines should receive security training.

Relation to Other Training Programs

The 9/11 Act includes requirements for TSA to consider “any current security training requirements or best practices” before issuing security training regulations.³ TSA is aware that many public transportation agencies, railroads, and OTRB owner/operators have implemented training that may satisfy some of the required security training program elements outlined above. The impetus for development of this training may include requirements of other Federal regulations; pursuant to a grant, using materials developed and/or approved by TSA; in anticipation of this rulemaking; voluntarily; or as a best practice. A range of courses—including those sponsored by TSA and other Federal agencies such as Federal Transit Administration (FTA), the Federal Railroad Administration (FRA), Federal Motor Carriers Safety Administration (FMCSA), the Federal Emergency Management Agency (FEMA) and the Pipeline and Hazardous Materials Safety Administration (PHMSA)—may provide a means for covered entities to coordinate training for their employees in many of the elements stipulated in the 9/11 Act.

³ See 9/11 Act secs. 1517(a) and 1534(a).

For example, TSA is aware of security training programs that mass transit and passenger rail agencies have implemented through courses sponsored by FTA, TSA, FRA and FEMA. Some of this information has been obtained by TSA as part of an ongoing effort under the Mass Transit Security Grant Program (TSGP) to develop a user-friendly matrix on training at basic and follow-on levels for particular categories of transit employees. In the past, as part of the TSGP, DHS has provided information to eligible agencies on training that would be pre-approved for use of grant funds in order to help in developing grant applications. TSA is also aware that many agencies have used funds provided under the TSGP to obtain third-party training.

There are also programs that have been developed to support testing effectiveness of response capabilities, such as the National Exercise Program managed by the Federal Emergency Management Agency (FEMA), exercises and drills funded through the TSGP, and the Intermodal Security Training and Exercise Program (I-STEP), both administered by TSA.⁴ Some of these courses are identified in the example for a security training matrix posted in the docket for this rulemaking (the purpose of this example is discussed below).

⁴ In FY 2008 and FY 2009, the TSGP included a Freight Rail Security Grant Program (FRSGP) that focused on activities designed to strengthen the nation's critical freight rail infrastructure against risks associated with potential terrorist attacks. In FY 2009, the program awarded approximately $1.4 million for training projects.

Similarly, under the Intercity Bus Security Grant Program (IBSGP), which has funded security grants to “eligible private operators providing transportation by an over-the-road bus,” TSA has managed Operation Secure Transport (OST). Operation Secure Transport is a training resource made available to train industry employees. Use of this training is voluntary. This training includes a curriculum intended to develop the ability of bus employees to recognize security threats and respond appropriately to security incidents. Under other grant programs, TSA has funded development of the First Observer™ program, which includes training modules for OTRB drivers on the need to be aware and vigilant for activities that could lead to terrorist incidents, such as how terrorists operate and how drivers and others can sharpen their powers of observation and be involved in preventing terrorism.

Request for Comments

TSA is requesting public comment and data to assist TSA in determining the current baseline of training that could meet some of the security training program elements outlined above. In particular, TSA is interested in receiving more data from owner/operators who are currently providing security or related safety training to their employees. While TSA has gathered significant information in these areas as part of its rulemaking efforts, there are some areas where it would be helpful to validate cost elements and ensure our understanding of the existing baseline is current. The questions asked seek information to close these gaps.

Commenters are asked to provide as much information as possible. In some areas, very specific information is being requested. TSA recognizes that providing detailed on every question could be burdensome. All information received will be considered, regardless of whether it is complete, and it is very much appreciated.

General information. Providing information on the nature of the business operation of the person commenting will help TSA more fully appreciate the information provided. Please include in your comments information regarding the nature and size of the business for which the other information is being provided. In addition, we would appreciate receiving information about how training is normally delivered, for example, through instructor-led training sessions, web-based training, or other. Failure to provide this information will not preclude the agency's full consideration of the comment.

Request to complete training matrix. To assist commenters, TSA has provided tables in the docket for this rulemaking that identify the requirements of the 9/11 Act. TSA is asking commenters to complete the table and submit it to TSA. An example is provided, using courses known to be provided through the TSGP, I-STEP and other programs previously identified. If the training is being provided to comply with a Federal or state requirement, please identify the source of that requirement.

Request to respond to specific questions. In addition, TSA is asking owner/operators of one of the modes of transportation that fall within the categories identified in the 9/11 Act (freight railroads, public transportation systems, passenger railroads, over-the-road buses) to respond to the following questions to help us identify the baseline and potential costs for the proposed rule. When providing comments, please explain the basis and reasoning underlying your comment. Please provide citations and copies of any relevant studies or reports on which you rely as well as any additional data which supports your comment.

1. The 9/11 Act focuses the security training program requirements on “frontline” employees. For the relevant business operation, or component of a larger entity, that would be required to have a security training program, what percentage of total employees are frontline employees as identified in Table 2? Please include in the total all frontline employees, including those employed through a contractor. If the total includes personnel employed through a contractor, please identify what percentage they are of the total.

1.1. Do you provide security awareness training to frontline employees (see Table 1 for a description of the elements of security awareness training and see Table 2 for an identification of frontline employees), either through a formal security awareness training program, or through some other type of employee training or exercise? If so, please briefly describe. How long have you provided this training? Did you change the training provided after passage of the 9/11 Act? Please provide the number of hours, per employee and overall, in preparing, attending, and implementing these training elements.

1.2. Are there certain types of frontline employees that currently do not participate in your company's training programs? If so, please indicate which types of employees (from Table 2) do not currently participate. Similarly, if you provide training on some of the elements listed in Table 1 to frontline employees, please describe which training elements and the types of employees who receive the training.

1.3. Do your frontline employees employed through a contractor receive the same training as other frontline employees? If not, please explain why.

1.4. What is the current cost per employee for your security awareness training? If you do not provide training on all of the elements listed in Table 1 to all frontline employees, please describe in as much detail as possible the projected additional cost to your organization of providing training on the Table 1 elements to all frontline employees. When providing an estimate for the projected additional costs, please include the assumptions you are using.

1.5. What is the curriculum delivery method used for your security awareness training (for example, instructor-led in classroom, computer-based, self-study, training exercises, a combination of those methods)?

1.6. What, if any, is the refresher training cycle for the training elements outlined above (for example, annual, biennial, triennial)?

1.7. Rounded up to the nearest hour, what is the amount of time spent in training related to the security elements in Table 1, per employee? (Please indicate whether this includes travel time and, if so, please provide any available data on how much.) Does this time frame differ based on the employment type or classification of the trainee? If so, please provide more detail on how your company determines the appropriate level of training.

1.8. To the extent, either at the corporate headquarters or subsidiary level, you have received federal grant funding for the development, production, or delivery of security awareness training, please indicate whether it was for developing specific training, training specific employees, or both. In other words, please indicate how the funding was allocated. In the absence of grant funding, would you have instituted this training?

2. Does your organization conduct operational or “live” exercises to test security training? To the extent possible, please provide information regarding the exercise program that reflects whether it is a phased or multi-tiered program. For example, some exercise programs have frequent spot checks with employees while performing their duties, less frequent table-top exercises for managers, and only conduct “live” exercises involving emergency responders and other stakeholders every few years. If you have such an exercise program, in answering the questions, please provide as much of a cost breakdown as possible to reflect costs associated with scope, frequency, and number of participating employees.

2.1. What employee populations participate in these exercises?

2.2. What number of or percentage of frontline employees, as listed in Table 2, participate in the exercises?

2.3. What is the frequency of the exercises?

2.4. How many management hours are involved in conducting security exercises including development time and coordination with contractors?

2.5. TSA is aware that owner/operators sometimes contract with private vendors for the planning, preparation, execution, and evaluation of exercises. TSA assumes that the fees charged by vendors will depend on the size and scope of the exercise, including the phases of an exercise, travel expenses for contractors, and other incidental charges. TSA requests informed comments related to contractor fees and the scope of services provided.

2.6. What types of existing tools or resources provided by TSA have you used that you think would help your company meet the requirements of the 9/11 Act? (For example, the Intermodal Security Training and Exercise Program (I-STEP) and First Observer™.)

2.7. Do you change the curriculum or format of your training programs based upon the results of these exercises? How do you evaluate whether a change is needed?

3. Additional data needed from owner/operators of freight railroads.

3.1. TSA derived a 4 percent annual railroad employee turnover rate from the Railroad Retirement Board.⁵ Is this turnover rate a good approximation of the turnover rate for the freight railroad industry? If no, TSA requests comments on the freight railroad industry employee turnover rate.

⁵ Railroad Retirement Board, Twenty-Fifth Actuarial Valuation of Assets and Liabilities Under the Railroad Retirement Acts as of December 31, 2010 with Technical Supplement, at p. 91, tbl. S-34 (under the “All Ages, Crude 100” column). See http://www.rrb.gov/pdf/act/valuation.pdf.

4. Additional data needed from owner/operators of public transportation systems.

4.1. TSA obtained a 10.9 percent annual employee turnover rate for public bus systems from a Transit Cooperative Research Program report sponsored by the FTA.⁶ Is this turnover rate a good approximation of the turnover rate for public transportation and passenger railroads? If no, TSA requests comments on the public transportation and passenger railroad employee turnover rate.

⁶ Transportation Research Board, 2001, TCRP Synthesis 40, at chpt. 5, p. 36. See http://onlinepubs.trb.org/Onlinepubs/tcrp/tsyn40.pdf.

4.2. TSA obtained a 0.92 percent annual growth rate for public transportation and passenger railroad employees from American Public Transportation Association (APTA).⁷ Is this growth rate a good approximation of the industry growth rate for the public transportation and passenger railroad industry? If no, TSA requests comments on the public transportation and passenger railroad industry growth rate.

⁷ APTA, 2010 Public Transportation Fact Book, at page vii, App. A: Historical Tables (tbl. 11: Operating Employees by Mode). TSA used the CAGR formula to derive the annual growth rate using 1984-2008 data, netting out the trolley and paratransit employees. CAGR = ((End value/start value)‸(1/periods-1)-1). See http://www.apta.com/resources/statistics/Documents/FactBook/2010_Fact_Book_Appendix_A.pdf.

5. Additional data needed from owner/operators of over-the-road buses.

5.1. TSA obtained a 32.3 percent annual employee turnover rate for the OTRB industry using the BLS JOLTS hires rates for transportation, warehousing, and utilities worker.⁸ Is this turnover rate a good approximation of the turnover rate for the OTRB industry? If no, TSA requests comments on the OTRB industry turnover rate.

⁸ Bureau of Labor Statistics, Jobs and Labor Turnover Survey, Transportation, warehousing, and utilities workers, Hires Rate, Annual Jan-Dec 2010 (Series ID JTU48009900HIR).

5.2. TSA obtained a 1.77 percent annual industry growth rate for OTRB carriers from the U.S. Census Bureau.⁹ Is this growth rate a good approximation of the industry growth rate for the OTRB industry? If no, TSA requests comments on the OTRB industry growth rate.

⁹ U.S. Census Bureau, Economic Census 1997 & 2007. Number of establishments for the following NAICS code industries included: 4859 Other transit & ground passenger transportation (2,555 & 3,136), 4855 Charter bus industry (1,531 & 1,300), 485113 Bus & motor vehicle transit systems (542 & 933), 4852 Interurban & rural bus transportation (407 & 562). TSA then applied the constant annual growth rate formula: CAGR: ((End Value/Start Value)‸(1/(periods-1))-1. See http://www.census.gov/epcd/ec97/us/US000_48.HTM#N485 and http://factfinder2.census.gov/bkmk/table/1.0/en/ECN/2007_US/48A1//naics~485113%7C4852%7C4855%7CALL-4859.

5.3. TSA obtained a 1.99 percent annual employee growth rate from the U.S. Census Bureau.¹⁰ Is this growth rate a good approximation of the employee growth rate for the OTRB industry? If no, TSA requests comments on the OTRB industry employee growth rate.

¹⁰ U.S. Census Bureau, Economic Census, 1997 & 2007. Employee data for the following NAICS codes included: 4859 (46,304 & 56,689), 4855 (31,483 & 31,343), 485113 (27,448 & 42,334), 4852 (19,900 & 17,690). CAGR = ((End Value/Start Value)‸(1/(periods-1))-1). See http://www.census.gov/epcd/ec97/us/US000_48.HTM#N485 and http://factfinder.census.gov/servlet/IBQTable?_bm=y&-geo_id=&-fds_name=EC0700A1&-_skip=100&-ds_name=EC0748I2&-_lang=en.

Conclusion

As previously noted, TSA appreciates the information that stakeholders have already provided during the consultation phase of this rulemaking required by the 9/11 Act.¹¹ We are also aware that a great deal of focus has been placed on the issue of enhancing security through training over the last decade. In finalizing a proposed rule, TSA wants to ensure that we adequately reflect these efforts. Any information that can be provided is appropriate and will be considered by TSA.

¹¹ See secs. 1408(b), 1517(b), and 1534(b).

Dated: June 8, 2013.
John S. Pistole,
Administrator.

[FR Doc. 2013-14091 Filed 6-13-13; 8:45 am]

BILLING CODE 9110-05-P